DEPARTMENT OF TRANSPORTATION

Federal Aviation Administration

Technical Standard Order—C157, Aircraft Flight Information Services—Broadcast (FIS-B) Data Link Systems and Equipment

AGENCY: Federal Aviation Administration, DOT.

ACTION: Notice of availability and requests for public comment.

SUMMARY: This notice announces the availability of and request comments on a proposed Technical Standard Order (TSO)-C157, Aircraft Flight Information Services—Broadcast (FIS-B) Data Link Systems and Equipment. The proposed TSO tells manufacturers seeking TSO authorization or letter of design approval what minimum performance standards (MPS) their FIS-B Data Link System and Equipment must first meet for approval and identification with the applicable TSO markings.

DATES: Submit comments on or before August 3, 2004.

ADDRESSES: Send all comments on the proposed TSO-C157 to: Federal Aviation Administration, Aircraft Certification Service, Aircraft Engineering Division, Avionic Systems Branch, AIR-130, Room 815, 800 Independence Avenue, SW., Washington, DC 20591. ATTN. Mr. Kevin Bridges, AIR-130. You may deliver comments to: Federal Aviation Administration, Room 815, 800 Independence Avenue, SW., Washington, DC 20591.

FOR FURTHER INFORMATION CONTACT: Mr. Kevin Bridges, AIR-130, Room 815, Federal Aviation Administration, Aircraft Certification Service, Aircraft Engineering Division, 800 Independence Avenue, SW., Washington, DC 20591, Telephone (202) 385-4627, FAX: (202) 385-4651, or e-mail: kevin.bridges@faa.gov.

SUPPLEMENTARY INFORMATION:

Comments Invited

You are invited to comment on the proposed TSO identified in this notice by submitting written data, views, or arguments to the address listed above. Your comments should identify “Comments to proposed TSO-C157”. You may examine all comments revised on the proposed TSO before and after the comment closing date at the Federal Aviation Administration, Room 815, 800 Independence Avenue, SW., Washington, DC 20591, weekdays except Federal holidays, between 8:30 a.m. and 4:30 p.m. The Director of the Aircraft Certification Service will consider all communications received on or before the closing date before issuing the final TSO.

Background

This TSO's standards apply to equipment intended to display weather and National Airspace System (NAS) status information. FIS-B equipment is intended to promote pilot awareness of reported weather and NAS status. The operational goal of FIS-B equipment is to enhance pilot decision-making during strategic flight planning. We consider FIS-B products to be advisory information only. As such, FIS-B is non-binding advice and information provided to help pilots fly safely. The standards of this TSO do not cover integration with other avionics and airborne applications, such as integration of FIS-B displays with displays of terrain, aircraft traffic information, moving maps, and flight plan overlays.

How To Obtain Copies

You may get a copy of the proposed TSO from the Internet at: http://av-info.faa.gov/tso/Tsopro/Proposed.htm. You may also request a copy from Mr. Kevin Bridges. See the section entitled FOR FURTHER INFORMATION CONTACT for the complete address.

Issued on Washington, DC, on June 23, 2004.
Susan J.M. Cabler,
Acting Manager, Aircraft Engineering Division, Aircraft Certification Service.

[FR Doc. 04-14870 Filed 6-29-04; 8:45 am]

BILLING CODE 4910-13-M